DEPARTMENT OF ENERGY

Federal Energy Regulatory Commission

[Project No. 12114-001]

Big Rock Power Partners; Notice of Surrender of Preliminary Permit

November 8, 2002.

Take notice that Big Rock Power Partners, permittee for the proposed Old Campbell Project, has requested that its preliminary permit be terminated. The permit was issued on February 12, 2002, and would have expired on January 31, 2005. The project would have been located on Old Campbell Creek in Humboldt County, California.

The permittee filed the request on September 24, 2002, and the preliminary permit for Project No. 12114 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 02-29141 Filed 11-15-02; 8:45 am]

BILLING CODE 6717-01-P